DEPARTMENT OF COMMERCE

National Oceanic and Atmospheric Administration

RIN 0648-XA665

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Joint Skate/Whiting Committee and Whiting Advisory Panel, on September 14-15, 2011, to consider actions affecting New England fisheries in the exclusive economic zone (EEZ). Recommendations from this group will be brought to the full Council for formal consideration and action, if appropriate.

DATES: This meeting will be held on Wednesday, September 14 and Thursday, September 15, 2011 at 9:30 a.m. each day.

ADDRESSES: The meeting will be held at the Hilton Providence, 21 Atwells Avenue, Providence, RI 02903; telephone: (401) 831-3900; fax: (407) 751-0007.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Wednesday, September 14, 2011-Thursday, September 15, 2011

The Oversight Committee will meet jointly with the Whiting Advisory Panel to finalize and recommend potential management alternatives for Multispecies FMP Amendment 19 for the small mesh fishery (red hake, silver hake, offshore hake). These alternatives will include Annual Catch Limit (ACL) measures (allocations, buffers for management uncertainty, landings limits), Accountability Measures (AM), and possibly other measures to regulate the fishery and prevent catches from exceeding the ACL. Committee recommendations to include alternatives in Draft Amendment 19 will be made at the September 26-29 Council meeting.

If necessary, the Whiting Advisory Panel may meet separately during the meeting. The Skate/Whiting Oversight Committee will also review a final draft skate specifications package and make recommendations at the Council meeting. The Oversight Committee may discuss other business regarding whiting and skate management.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 23, 2011.
Tracey L. Thompson,
Acting Director, Office of Sustainable Fisheries, National Marine Fisheries Service.

[FR Doc. 2011-21882 Filed 8-25-11; 8:45 am]

BILLING CODE 3510-22-P